NATIONAL LABOR RELATIONS BOARD

Notice of Appointments of Individuals To Serve as Members of Performance Review Boards; Correction

Authority: 5 U.S.C. 4314(c)(4).

AGENCY: National Labor Relations Board.

ACTION: Notice; correction.

SUMMARY: The National Labor Relations Board published a document in the Federal Register of November 25, 2015, giving notice that certain named individuals had been appointed to serve as members of performance review boards in the National Labor Relations Board for the rating year beginning October 1, 2014 and ending September 30, 2015. The document failed to list one of the individuals so appointed.

FOR FURTHER INFORMATION CONTACT: Gary Shinners, Executive Secretary, National Labor Relations Board, 1099 14th Street NW., Washington, DC 20570, (202) 273-3737 (this is not a toll-free number), 1-866-315-6572 (TTY/TDD).

Correction

In the Federal Register of November 25, 2015, in FR Doc. 2015-30031, on page 73836, in the third column, correct the list of names of individuals appointed to serve as members of performance review boards by adding the following individual:

Name and Title

Deborah Yaffee—Director, Office of Appeals

Dated: December 9, 2015.
By Direction of the Board.
William B. Cowen,
Solicitor.

[FR Doc. 2015-31421 Filed 12-14-15; 8:45 am]

BILLING CODE 7545-01-P